DEPARTMENT OF HEALTH AND HUMAN SERVICES

Health Resources and Services Administration

AETC National Evaluation Center Program Guidance Announcement

AGENCY: Health Resources and Services Administration, HHS.

ACTION: Correction.

SUMMARY: In notice document FR Doc 03-19996, Vol. 68, No 151, Wednesday, August 06, 2003, make the correction:

On page 46648 in the first column under Eligible Applicants add “Applications will be accepted from public and nonprofit private entities including schools and academic health sciences centers.”

Dated: August 19, 2003.
Jane M. Harrison,
Director, Division of Policy Review and Coordination.

[FR Doc. 03-21754 Filed 8-26-03; 8:45 am]

BILLING CODE 4165-15-P